DEPARTMENT OF ENERGY

Federal Energy Regulatory Commission

Combined Notice of Filings #1

Take notice that the Commission received the following electric rate filings:

Docket Numbers: ER18-1274-001.

Applicants: Duke Energy Ohio, Inc., Duke Energy Kentucky, Inc., PJM Interconnection, L.L.C.

Description: Compliance filing: DEOK submits compliance filing re: Commission's 6/1/2018 order to be effective 1/1/2012.

Filed Date: 6/20/18.

Accession Number: 20180620-5090.

Comments Due: 5 p.m. ET 7/11/18.

Docket Numbers: ER18-1808-000.

Applicants: Midcontinent Independent System Operator, Inc.

Description: § 205(d) Rate Filing: 2018-06-20 Termination of SA 2998 Exelon-MISO ENRIS Agreement (J371) to be effective 7/31/2018.

Filed Date: 6/20/18.

Accession Number: 20180620-5021.

Comments Due: 5 p.m. ET 7/11/18.

Docket Numbers: ER18-1809-000.

Applicants: Entergy Arkansas, Inc.

Description: Request of Entergy Arkansas, Inc. for Temporary and Limited Waiver of Rate Schedule.

Filed Date: 6/19/18.

Accession Number: 20180619-5132.

Comments Due: 5 p.m. ET 7/10/18.

Docket Numbers: ER18-1810-000.

Applicants: Midcontinent Independent System Operator, Inc.

Description: § 205(d) Rate Filing: 2018-06-20_Termination of SA 3050 SC Interconnection-ITCM GIA (J298) to be effective 6/21/2018.

Filed Date: 6/20/18.

Accession Number: 20180620-5037.

Comments Due: 5 p.m. ET 7/11/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 20, 2018.
Nathaniel J. Davis, Sr.,
Deputy Secretary.

[FR Doc. 2018-13662 Filed 6-25-18; 8:45 am]

BILLING CODE 6717-01-P